DEPARTMENT OF HEALTH AND HUMAN SERVICES

Administration on Aging

Purpose of Notice: Availability of Funding Opportunity Announcement

Funding Opportunity Title/Program Name: Advanced Performance Outcome Measurement Project (POMP).

Announcement Type: Initial.

Funding Opportunity Number: HHS-2006-AoA-PO-0716.

Statutory Authority: The Older Americans Act, Public Law 109-365.

Catalog of Federal Domestic Assistance (CFDA) Number: 93.048, Title IV and Title II, Discretionary Projects.

Dates: The deadline date for the submission of applications is August 15, 2007.

I. Funding Opportunity Description

This announcement seeks proposals for Advanced Performance Outcome Measurement Projects (POMP) that will be funded with grant awards. Advanced POMP projects have been designed for the purpose of developing more robust performance outcome measures quantifying program impact in a manner that can be associated with cost. The purpose of this competition is to enhance or expand the existing POMP projects. Grant projects will receive technical support if requested.

A detailed description of the funding opportunity may be found at http://www.aoa.gov and http://www.gpra.net.

II. Award Information

1. Funding Instrument Type

Grant.

2. Anticipated Total Priority Area Funding per Budget Period

AoA intends to make available, under this program announcement, grant awards for up to nine projects for a two year period at a federal share of approximately $60,000-$70,000 per year for the first year and approximately $80,000-$100,000 for the second year contingent on the availability of funds.

III. Eligibility Criteria and Other Requirements

1. Eligible Applicants

Only state agencies on aging that received an Advanced Performance Outcome Measurement Project award in FY 2004 are eligible to apply. These states are Arizona, Florida, Georgia, Iowa, New York, North Carolina, Ohio, Rhode Island and South Carolina.

2. Cost Sharing or Matching

Grantees are required to provide at least 25 percent of the total program costs from non-federal cash or in-kind resources in order to be considered for the award.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

Application kits are available by writing to the U.S. Department of Health and Human Services, Administration on Aging, Office of Evaluation, Washington, DC 20201, by calling 202-357-0145, or online at http://www.grants.gov or http://www.gpra.net. Applications must be submitted electronically to http://www.grants.gov. In order to be able to submit the application, you must register in the Central Contractor Registry (CCR) database. Information about CCR is available at http://www.grants.gov/CCRRegister. Instructions for the electronic submission of grant applications are available at http://www.grants.gov. To receive consideration, applications must be submitted electronically by midnight Eastern time by the deadline listed in the DATES section at the beginning of this Notice.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

• Purpose and Need for Assistance—(20 points)

• Approach, Workplan and Activities—(30 points)

• Outcomes/Evaluation/Dissemination—(25 points)

• Level of Effort—(25 points).

VII. Agency Contacts

Direct inquiries regarding programmatic issues to U.S. Department of Health and Human Services, Administration on Aging, Office of Evaluation, Washington, DC 20201, telephone: (202) 357-0145.

Dated: June 28, 2007.
Josefina G. Carbonell,
Assistant Secretary for Aging.

[FR Doc. E7-12858 Filed 7-2-07; 8:45 am]

BILLING CODE 4154-01-P